DEPARTMENT OF HEALTH AND HUMAN SERVICES

Federal Financial Participation in State Assistance Expenditures; Federal Matching Shares for Medicaid, the Children's Health Insurance Program, and Aid to Needy Aged, Blind, or Disabled Persons for October 1, 2011 through September 30, 2012

AGENCY: Office of the Secretary, DHHS.

ACTION: Notice.

SUMMARY: The Federal Medical Assistance Percentages (FMAP) and Enhanced Federal Medical Assistance Percentages (eFMAP) for Fiscal Year 2012 have been calculated pursuant to the Social Security Act (the Act). These percentages will be effective from October 1, 2011 through September 30, 2012. This notice announces the calculated FMAP and eFMAP rates that the U.S. Department of Health and Human Services (HHS) will use in determining the amount of Federal matching for state medical assistance (Medicaid) and Children's Health Insurance Program (CHIP) expenditures, Temporary Assistance for Needy Families (TANF) Contingency Funds, Child Support Enforcement collections, Child Care Mandatory and Matching Funds of the Child Care and Development Fund, Foster Care Title IV-E Maintenance payments, and Adoption Assistance payments. The table gives figures for each of the 50 states, the District of Columbia, Puerto Rico, the Virgin Islands, Guam, American Samoa, and the Commonwealth of the Northern Mariana Islands.

Programs under title XIX of the Act exist in each jurisdiction. Programs under titles I, X, and XIV operate only in Guam and the Virgin Islands, while a program under title XVI (Aid to the Aged, Blind, or Disabled) operates only in Puerto Rico. The percentages in this notice apply to state expenditures for most medical assistance and child health assistance, and assistance payments for certain social services. The Act provides separately for Federal matching of administrative costs.

Sections 1905(b) and 1101(a)(8)(B) of the Act require the Secretary of HHS to publish the FMAP rates each year. The Secretary calculates the percentages, using formulas in sections 1905(b) and 1101(a)(8)(B), and calculations by the Department of Commerce of average income per person in each state and for the Nation as a whole. The percentages must fall within the upper and lower limits given in section 1905(b) of the Act. The percentages for the District of Columbia, Puerto Rico, the Virgin Islands, Guam, American Samoa, and the Northern Mariana Islands are specified in statute, and thus are not based on the statutory formula that determines the percentages for the 50 states.

Section 1905(b) of the Act specifies the formula for calculating FMAPs as follows:

“Federal medical assistance percentage” for any State shall be 100 per centum less the State percentage; and the State percentage shall be that percentage which bears the same ratio to 45 per centum as the square of the per capita income of such State bears to the square of the per capita income of the continental United States (including Alaska) and Hawaii; except that (1) the Federal medical assistance percentage shall in no case be less than 50 per centum or more than 83 per centum, (2) the Federal medical assistance percentage for Puerto Rico, the Virgin Islands, Guam, the Northern Mariana Islands, and American Samoa shall be 50 per centum.

Section 4725(b) of the Balanced Budget Act of 1997 amended section 1905(b) to provide that the FMAP for the District of Columbia for purposes of titles XIX and XXI shall be 70 percent. For the District of Columbia, we note under the table of FMAPs that other rates may apply in certain other programs. In addition, we note the rate that applies for Puerto Rico, the Virgin Islands, Guam, American Samoa, and the Commonwealth of the Northern Mariana Islands in certain other programs pursuant to section 1118 of the Act.

Section 2105(b) of the Act specifies the formula for calculating the eFMAP rates as follows:

The “enhanced FMAP”, for a State for a fiscal year, is equal to the Federal medical assistance percentage (as defined in the first sentence of section 1905(b)) for the State increased by a number of percentage points equal to 30 percent of the number of percentage points by which (1) such Federal medical assistance percentage for the State, is less than (2) 100 percent; but in no case shall the enhanced FMAP for a state exceed 85 percent.

The eFMAP rates are used in the Children's Health Insurance Program under Title XXI, and in the Medicaid program for certain children for expenditures for medical assistance described in sections 1905(u)(2) and 1905(u)(3) of the Act. There is no specific requirement to publish the eFMAP rates. We include them in this notice for the convenience of the states.

DATES: Effective Dates: The percentages listed will be effective for each of the four quarter-year periods beginning October 1, 2011 and ending September 30, 2012.

FOR FURTHER INFORMATION CONTACT: Carrie Shelton, Office of Health Policy, Office of the Assistant Secretary for Planning and Evaluation, Room 447D—Hubert H. Humphrey Building, 200 Independence Avenue, SW., Washington, DC 20201, (202) 690-6870.

(Catalog of Federal Domestic Assistance Program Nos. 93.558: TANF Contingency Funds; 93.563: Child Support Enforcement; 93.596: Child Care Mandatory and Matching Funds of the Child Care and Development Fund; 93.658: Foster Care Title IV-E; 93.659: Adoption Assistance; 93.769: Ticket-to-Work and Work Incentives Improvement Act (TWWIIA) Demonstrations to Maintain Independence and Employment; 93.778: Medical Assistance Program; 93.767: Children's Health Insurance Program)

Dated: October 12, 2010.
Kathleen Sebelius,
Secretary.

Federal Medical Assistance Percentages and Enhanced Federal Medical Assistance Percentages, Effective October 1, 2011-September 30, 2012 (Fiscal year 2012)
State | Federal medical assistance percentages | Enhanced federal medical assistance percentages
Alabama | 68.62 | 78.03
Alaska | 50.00 | 65.00
American Samoa* | 50.00 | 65.00
Arizona | 67.30 | 77.11
Arkansas | 70.71 | 79.50
California | 50.00 | 65.00
Colorado | 50.00 | 65.00
Connecticut | 50.00 | 65.00
Delaware | 54.17 | 67.92
District of Columbia** | 70.00 | 79.00
Florida | 56.04 | 69.23
Georgia | 66.16 | 76.31
Guam* | 50.00 | 65.00
Hawaii | 50.48 | 65.34
Idaho | 70.23 | 79.16
Illinois | 50.00 | 65.00
Indiana | 66.96 | 76.87
Iowa | 60.71 | 72.50
Kansas | 56.91 | 69.84
Kentucky | 71.18 | 79.83
Louisiana | 61.09 | 72.76
Maine | 63.27 | 74.29
Maryland | 50.00 | 65.00
Massachusetts | 50.00 | 65.00
Michigan | 66.14 | 76.30
Minnesota | 50.00 | 65.00
Mississippi | 74.18 | 81.93
Missouri | 63.45 | 74.42
Montana | 66.11 | 76.28
Nebraska | 56.64 | 69.65
Nevada | 56.20 | 69.34
New Hampshire | 50.00 | 65.00
New Jersey | 50.00 | 65.00
New Mexico | 69.36 | 78.55
New York | 50.00 | 65.00
North Carolina | 65.28 | 75.70
North Dakota | 55.40 | 68.78
Northern Mariana Islands* | 50.00 | 65.00
Ohio | 64.15 | 74.91
Oklahoma | 63.88 | 74.72
Oregon | 62.91 | 74.04
Pennsylvania | 55.07 | 68.55
Puerto Rico* | 50.00 | 65.00
Rhode Island | 52.12 | 66.48
South Carolina | 70.24 | 79.17
South Dakota | 59.13 | 71.39
Tennessee | 66.36 | 76.45
Texas | 58.22 | 70.75
Utah | 70.99 | 79.69
Vermont | 57.58 | 70.31
Virgin Islands* | 50.00 | 65.00
Virginia | 50.00 | 65.00
Washington | 50.00 | 65.00
West Virginia | 72.62 | 80.83
Wisconsin | 60.53 | 72.37
Wyoming | 50.00 | 65.00
* For purposes of section 1118 of the Social Security Act, the percentage used under titles I, X, XIV, and XVI will be 75 per centum.
** The values for the District of Columbia in the table were set for the state plan under titles XIX and XXI and for capitation payments and DSH allotments under those titles. For other purposes, the percentage D.C. is 50.00, unless otherwise specified by law.

[FR Doc. 2010-28319 Filed 11-9-10; 8:45 am]

BILLING CODE 4150-05-P